DEPARTMENT OF LABOR

Employment and Training Administration

[TA-W-60,788]

Hearth and Home Technologies, Division of HNI Industries, Mt. Pleasant, IA; Notice of Revised Determination on Reconsideration of Alternative Trade Adjustment Assistance

By letter dated April 2, 2007, a state official requested administrative reconsideration regarding Alternative Trade Adjustment Assistance (ATAA) applicable to workers of the subject firm. The negative determination was signed on March 16, 2007, and was published in the Federal Register on March 30, 2007 (72 FR 15168).

The workers of Hearth and Home Technologies, division of HNI Industries, Mt. Pleasant, Iowa were certified eligible to apply for Trade Adjustment Assistance (TAA) on March 16, 2007.

The initial ATAA investigation determined that the skills of the subject worker group are easily transferable to other positions in the local area.

In the request for reconsideration, the petitioner provided sufficient information confirming that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Hearth and Home Technologies, division of HNI Industries, Mt. Pleasant, Iowa, who became totally or partially separated from employment on or after January 16, 2006 through March 16, 2009, are eligible to apply for trade adjustment assistance under Section 223 of the Trade Act of 1974 and are also eligible to apply for alternative trade adjustment assistance under Section 246 of the Trade Act of 1974.

Signed in Washington, DC, this 13th day of April, 2007.
Elliott S. Kushner,
Certifying Officer, Division of Trade Adjustment Assistance.

[FR Doc. E7-7618 Filed 4-20-07; 8:45 am]

BILLING CODE 4510-FN-P